DEPARTMENT OF DEFENSE

Office of the Secretary

[Transmittal No. 23-04]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-04, Policy Justification, and Sensitivity of Technology.

Dated: September 11, 2024.
Aaron T. Siegel,
Alternate OSD Federal Register Liaison Officer, Department of Defense.

BILLING CODE 6001-FR-P

BILLING CODE 6001-FR-C

Transmittal No. 23-04

Notice of Proposed Issuance of Letter of Offer Pursuant to Section 36(b)(1) of the Arms Export Control Act, as amended

(i) Prospective Purchaser: Government of Kuwait

(ii) Total Estimated Value:

Major Defense Equipment * | $ 0 million
Other | $59.1 million
TOTAL | $59.1 million

Funding Source: National Funds

(iii) Description and Quantity or Quantities of Articles or Services Under Consideration for Purchase: Foreign Military Sales (FMS) case KU-P-PAK, was below congressional notification threshold at $48.2 million (all non-MDE) and included Cartridge Actuated Device/Propellant Actuated Device (CAD/PAD) items and support for Calendar Years 2025-2026 (CY25-CY26).

Major Defense Equipment (MDE):

None

Non-MDE:

The Government of Kuwait has requested the case be amended to include additional CAD/PAD items and support for the Hornet, Super Hornet and KC-130 aircraft fleet. This amendment will push the current case above the non-MDE notification threshold and thus requires notification of the entire case. CAD/PAD items and support; engineering, technical, and program support; and other related elements of logistics.

(iv) Military Department: Navy (KU-P-PAK)

(v) Prior Related Cases, if any: KU-P-PAG, KU-P-PAH

(vi) Sales Commission, Fee, etc., Paid, Offered, or Agreed to be Paid: None

(vii) Sensitivity of Technology Contained in the Defense Article or Defense Services Proposed to be Sold: See Attached Annex

(viii) Date Report Delivered to Congress: March 29, 2023

* As defined in Section 47(6) of the Arms Export Control Act.

POLICY JUSTIFICATION

Kuwait—Cartridge Actuated Device/Propellant Actuated Devices (CAD/PAD) and Support

The Government of Kuwait has requested to buy additional Cartridge Actuated Device/Propellant Actuated Devices (CAD/PAD) and support that will be added to a previously implemented case that was under Congressional notification threshold. The original FMS case, valued at $48.2 million, included CAD/PAD items and support for Calendar Years 2025-2026 (CY25-CY26). This notification is for CAD/PAD items and support of Kuwait's F/A-18 and KC-130/J aircraft fleet. Also included is engineering, technical, and program support and other related elements of logistics and program support. The total estimated cost is $59.1 million.

This proposed sale will support the foreign policy and national security objectives of the United States by helping to improve the security of a Major Non-NATO ally that has been an important force for political stability and economic progress in the Middle East.

The proposed sale will provide Kuwait with the equipment and sustainment support necessary to maintain its air defense capacity to defend its territorial integrity and to meet its national defense requirements. Kuwait will have no difficulty absorbing this equipment into its armed forces.

The proposed sale of this equipment and support will not alter the basic military balance in the region.

The principal contractors are currently unknown, as there will be competitive contract solicitations after FMS case implementation. There are no known offset agreements proposed in connection with this potential sale.

Implementation of this sale will not require the assignment of any U.S. Government or contractor representatives to Kuwait.

There will be no adverse impact on U.S. defense readiness as a result of this proposed sale.

Transmittal No. 23-04

Notice of Proposed Issuance of Letter of Offer Pursuant to Section 36(b)(1) of the Arms Export Control Act

Annex

Item No. vii

(vii) Sensitivity of Technology:

1. Cartridge Actuated Device/Propellant Actuated Device (CAD/PADs) are the explosive devices installed within the aircraft escape and safety systems to save lives during emergencies. CAD/PAD are also used to power the aircraft systems that deploy weapons and jettison equipment.

2. The highest level of classification of defense articles, components, and services included in this potential sale is UNCLASSIFIED.

3. If a technologically advanced adversary were to obtain knowledge of the hardware and software elements, the information could be used to develop countermeasures or equivalent systems which might reduce system effectiveness or be used in the development of a system with similar or advanced capabilities.

4. A determination has been made that the Government of Kuwait can provide substantially the same degree of protection for the sensitive technology being released as the U.S. Government. This sale is necessary in furtherance of the U.S. foreign policy and national security objectives outlined in the Policy Justification.

5. All defense articles and services listed in this transmittal are authorized for release and export to the Government of Kuwait.

[FR Doc. 2024-21052 Filed 9-16-24; 8:45 am]

BILLING CODE 6001-FR-P